DEPARTMENT OF STATE

[Public Notice 8659]

Shipping Coordinating Committee; Notice of Committee Meeting

The Shipping Coordinating Committee (SHC) will conduct an open meeting at 10:00 a.m. on Friday, April 18, 2014, in Room 2E16-06, United States Coast Guard Headquarters, 2703 Martine Luther King Jr. Ave. SE., Washington, DC 20593-7213. The primary purpose of the meeting is to prepare for the one hundred first Session of the International Maritime Organization's (IMO) Legal Committee to be held at the IMO Headquarters, United Kingdom, April 28-May 2, 2014.

The agenda items to be considered include:

• Adoption of the agenda and report on delegation credentials

• HNS Protocol, 2010

• Fair treatment of seafarers in the event of a maritime accident

• Piracy

• Technical cooperation activities related to maritime legislation

• Election of officers

• Liability and compensation issues connected with transboundary pollution damage from offshore oil exploration and exploitation

Members of the public may attend this meeting up to the seating capacity of the room. To facilitate the building security process, and to request reasonable accommodation, those who plan to attend should contact the meeting coordinator, Ms. Bronwyn Douglass, by email at bronwyn.douglass@uscg.mil, by phone at 202-372-3793, or in writing at Commandant (CG-094), ATTN: Office of Maritime & International Law, US Coast Guard STOP 7213, 2703 Martin Luther King Jr. Ave. SE., Washington, DC 20593-7213 not later than April 11, 2014, which is seven days prior to the meeting. Requests made after April 11, 2014, will be considered but might be difficult to fulfill. Arrivals without pre-clearance cannot be accommodated. Please note that due to security considerations, two valid, government issued photo identifications must be presented to gain entrance to the Headquarters building. The Headquarters building is accessible by taxi and privately owned conveyance (public transportation is not generally available). However, parking in the vicinity of the building is extremely limited. Additional information regarding security and parking may be found at: http://www.uscg.mil/baseNCR/documents/visit_instructions.pdf. Additional information regarding this and other IMO SHC public meetings may be found at: www.uscg.mil/imo.

Dated: March 10, 2014.
Marc Zlomek,
Executive Secretary, Shipping Coordinating Committee, Department of State.

[FR Doc. 2014-05690 Filed 3-13-14; 8:45 am]

BILLING CODE 4710-09-P